ENVIRONMENTAL PROTECTION AGENCY

[EPA-HQ-OPP-2014-0440; FRL-9911-69]

Notice of Receipt of Requests to Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registration has been cancelled only if such sale, distribution, or use is consistent with the terms as described in the final order.

DATES: Comments must be received on or before February 11, 2015.

ADDRESSES: Submit your comments, identified by docket identification (ID) number EPA-HQ-OPP-2014-0440, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Information Technology and Resources Management Division (7502P), Office of Pesticide Programs, Environmental Protection Agency, 1200 Pennsylvania Ave. NW., Washington, DC 20460-0001. ATTN: Michael Yanchulis.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Yanchulis, Information Technology and Resources Management Division (7502P), Office of Pesticide Programs, Environmental Protection Agency, 1200 Pennsylvania Ave., NW., Washington, DC 20460-0001; telephone number: (703) 347-0237; email address: yanchulis.michael@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This notice announces receipt by the Agency of requests from registrants to cancel 209 pesticide products registered under FIFRA section 3 or 24(c). These registrations are listed in sequence by registration number (or company number and 24(c) number) in Table 1 of this unit.

Unless the Agency determines that there are substantive comments that warrant further review of the requests or the registrants withdraw their requests, EPA intends to issue an order in the Federal Register canceling all of the affected registrations.

Table 1—Registrations With Pending Requests for Cancellation
Registration No. | Company No. | Product name | Chemical name
000100-01135 | 100 | ZPP 1560 AS Herbicide | Glyphosate diammonium salt.
000100-01293 | 100 | Traxion GT | Glyphosate.
000100-01325 | 100 | Flexstar GT Herbicide | Glyphosate; Sodium salt of fomesafen.
000100-01518 | 100 | Naviva LF | Pasteuria spp.—Pr3.
000264-00567 | 264 | Balance Herbicide | Isoxaflutole.
000264-00843 | 264 | Iodosulfuron 10 WDG Herbicide | Iodosulfuron-methyl-sodium.
000264-00846 | 264 | AE 1283742 | Clothianidin, Imidacloprid.
000264-00940 | 264 | Gustafson Vitavax-PCNB Flowable Fungicide | Carboxin; Pentachloronitrobenzene.
000264-00942 | 264 | Gustafson Thiram 50WP Dyed | Thiram.
000264-00943 | 264 | RTU-Vitavax-Thiram Seed Protectant Fungicide | Carboxin; Thiram.
000264-00951 | 264 | Kodiak Concentrate Biological Fungicide | Bacillus subtilis GB03.
000264-00952 | 264 | Kodiak HB Biological Fungicide | Bacillus subtilis GB03.
000264-00953 | 264 | Kodiak A-T Fungicide | Bacillus subtilis GB03; Metalaxyl; Pentachloronitrobenzene.
000264-00969 | 264 | Gustafson Allegiance 50WP | Metalaxyl.
000264-00970 | 264 | Kodiak Flowable Biological Fungicide | Bacillus subtilis GB03.
000264-00974 | 264 | Gustafson AG-Streptomycin | Streptomycin sulfate.
000264-00984 | 264 | Titan FL | Carboxin; Clothianidin; Metalaxyl; Thiram.
000264-01013 | 264 | Ipconazole Metalaxyl MD (S) | Ipconazole; Metalaxyl.
000264-01014 | 264 | Gustafson Allegiance Dry Seed Protectant Fungicide | Metalaxyl.
000264-01015 | 264 | Prevail Allegiance Terraclor Vitavax Fungicide | Carboxin; Metalaxyl; Pentachloronitrobenzene.
000264-01016 | 264 | Stiletto Pak | Carboxin; Metalaxyl; Thiram.
000264-01019 | 264 | Stiletto | Carboxin; Metalaxyl; Thiram.
000264-01035 | 264 | Prosper T200 Insecticide and Fungicide Seed Treatment | Carboxin; Clothianidin; Metalaxyl; Trifloxystrobin.
000264-01076 | 264 | Vortex 2000 | Ipconazole; Metalaxyl.
000264-01079 | 264 | Three-Way VAP | Clothianidin; Ipconazole; Metalaxyl.
000352-00702 | 352 | Griffin Early Harvest PGR | Cytokinin; Gibberellic acid; Indole-3-butyric acid.
000464-00694 | 464 | Ucarcide 150 Antimicrobial | Glutaraldehyde.
000464-00696 | 464 | Ucarsan Sanitizer 4128 | Glutaraldehyde.
000464-00712 | 464 | Piror 842 Slimicide | Quaternary ammonium compounds; Glutaraldehyde.
000961-00283 | 961 | Greenview Preen 'n Green | Trifluralin.
000961-00390 | 961 | Lebanon Lawn Fertilizer contains Confront and Team | Benfluralin; Clopyralid, triethanolamine; Triclopyr, triethylamine salt; Trifluralin.
000961-00411 | 961 | Lebanon Permethrin 0.5 Lawn Insect Control with Fertilizer | Permethrin.
001381-00230 | 1381 | IMID-TEBU-META | Imidacloprid; Metalaxyl; Tebuconazole.
001529-00032 | 1529 | Nuosept 101 Preservative | 4,4-Dimethyloxazolidine.
001529-00037 | 1529 | Nuosept 166 Preservative | 4,4-Dimethyloxazolidine...
001839-00047 | 1839 | CD 4.5 Detergent/Disinfectant | Quaternary ammonium compounds.
001839-00064 | 1839 | BTC 776-80% | Quaternary ammonium compounds.
001839-00066 | 1839 | BTC 2565 Concentrate for the Manufacture of Algaecides | Quaternary ammonium compounds.
001839-00106 | 1839 | 10% BTC 2125M Powder Fabric Softener/Sanitizer. | Quaternary ammonium compounds.
001839-00110 | 1839 | 20% Active Powder Commercial Fabric Softener/Sanitizer | Quaternary ammonium compounds.
001839-00111 | 1839 | 5% Powdered Fabric Softener/Sanitizer | Quaternary ammonium compounds.
001839-00129 | 1839 | BTC 99 Industrial Water Cooling Tower | Quaternary ammonium compounds.
001839-00132 | 1839 | 5% BTC 99 Swimming Pool Algaecide | Quaternary ammonium compounds.
001839-00133 | 1839 | 10% BTC 99 Swimming Pool Algaecide | Quaternary ammonium compounds.
001839-00134 | 1839 | 50% BTC 99 Swimming Pool Algaecide | Quaternary ammonium compounds.
001839-00139 | 1839 | 20% BTC 99 Industrial And/Or Commercial Recirculating Cooling Water | Quaternary ammonium compounds.
001839-00144 | 1839 | NP 5.5 HW (D&F) Detergent/Disinfectant | Quaternary ammonium compounds.
001839-00154 | 1839 | Scented 10% BTC 2125M Disinfectant | Quaternary ammonium compounds.
001839-00177 | 1839 | NonHard Water Neutral Disinfectant Cleaner | Quaternary ammonium compounds.
001839-00180 | 1839 | 25% BTC 99 Swimming Pool Algaecide | Quaternary ammonium compounds.
001839-00192 | 1839 | BQ451-5 Biocide | Quaternary ammonium compounds.
001839-00193 | 1839 | BQ1416-5 Biocide | Quaternary ammonium compounds.
001839-00194 | 1839 | BQ361-5 Biocide | Quaternary ammonium compounds.
001839-00195 | 1839 | BQ1416-8 Biocide | Quaternary ammonium compounds.
001839-00196 | 1839 | BQ621-5 Biocide | Quaternary ammonium compounds.
001839-00197 | 1839 | BEQ442-8 Biocide | Quaternary ammonium compounds.
001839-00198 | 1839 | BEQ442-5 Biocide | Quaternary ammonium compounds.
001839-00199 | 1839 | DAQ1010-5 Biocide | Quaternary ammonium compounds.
001839-00200 | 1839 | Albemarle DAQ1010-8 Biocide | Quaternary ammonium compounds.
001839-00201 | 1839 | Albemarle AC76-5 Biocide | Quaternary ammonium compounds.
001839-00202 | 1839 | BQ451-8 Biocide | Quaternary ammonium compounds.
001839-00203 | 1839 | Albemarle DAQ1010-5-W | Quaternary ammonium compounds.
001839-00204 | 1839 | BQ451-5-WW Biocide | Quaternary ammonium compounds.
001839-00205 | 1839 | AC76-5-PW Biocide | Quaternary ammonium compounds.
002693-00214 | 2693 | Micron Extra P—Blue | Cuprous oxide; Tolylfluanid.
002693-00215 | 2693 | Ultra P—Blue | Cuprous oxide; Tolylfluanid.
002792-00069 | 2792 | Decco 270 Aerosol | Chlorpropham.
003008-00072 | 3008 | Osmose Arsenic Acid 75% | Arsenic acid.
003862-00075 | 3862 | Mint 7 | Quaternary ammonium compounds.
003862-00185 | 3862 | Spur-Tex Disinfectant Cleaner-Deodorant | Quaternary ammonium compounds.
005813-00081 | 5813 | CGW | Isopropyl alcohol.
007969-00248 | 7969 | BAS 516 ST Seed Treatment Fungicide | Boscalid; Pyraclostrobin.
034704-01026 | 34704 | First Choice Milsana Bioprotectant | Reynoutria sachalinensis.
035935-00030 | 35935 | Glyphosate Technical | Glyphosate.
035935-00033 | 35935 | Glyphosate Technical | Glyphosate.
035935-00034 | 35935 | Glyphosate Technical (NUP-05068) | Glyphosate.
035935-00037 | 35935 | Imazapyr Technical | Imazapyr.
035935-00076 | 35935 | Prodiamine Technical | Prodiamine.
039967-00026 | 39967 | Preventol WB Plus | o-Phenylphenol, sodium salt; Sodium p-chloro-m-cresolate; Sodium pyrithione.
039967-00036 | 39967 | Metasol CB 225-AD | 1-Bromo-1-(bromomethyl)-1,3-propanedicarbonitrile.
039967-00037 | 39967 | Metasol CB 225-LC | 1-Bromo-1-(bromomethyl)-1,3-propanedicarbonitrile.
039967-00040 | 39967 | Metasol CB-220 | 1-Bromo-1-(bromomethyl)-1,3-propanedicarbonitrile.
039967-00049 | 39967 | Preventol A5-S | Tolylfluanid.
057787-00029 | 57787 | Proteam Power Magic Superoxidizer | Boron sodium oxide (B4Na2O7), pentahydrate; Calcium hypochlorite.
062719-00470 | 62719 | Halofenozide Technical Insecticide | Halofenozide.
062719-00471 | 62719 | Mach 2 2SC | Halofenozide.
062719-00472 | 62719 | Mach 2 2.5% Granular Turf Insecticide | Halofenozide.
062719-00473 | 62719 | Mach 2 1.5G Specialty Insecticide | Halofenozide.
062719-00474 | 62719 | Mach 2 Plus Fertilizer 0.86% A.I. | Halofenozide.
062719-00475 | 62719 | Mach 2* Plus Fertilizer 0.57% A.I. | Halofenozide.
062719-00476 | 62719 | Mach 2 Manufacturing Use Concentrate | Halofenozide.
062719-00489 | 62719 | Mach 2 Plus Fertilizer (1% A.I.) | Halofenozide.
062719-00490 | 62719 | Mach 2 Plus Fertilizer (1.33% A.I.) | Halofenozide.
071368-00070 | 71368 | Bromoxynil Technical 94% | Bromoxynil.
071368-00071 | 71368 | Bromox Octanoic Acid Technical | Bromoxynil octanoate.
AL-98-0004 | 59639 | Select Herbicide | Clethodim.
AR-08-0003 | 279 | Brigade 2EC Insecticide/Miticide | Bifenthrin.
AR-08-0017 | 100 | Dual Magnum | S-Metolachlor.
AR-13-0001 | 241 | Raptor Herbicide | Imazamox.
AR-96-0005 | 59639 | Cobra Herbicide | Lactofen.
AZ-07-0012 | 279 | Brigade 2EC Insecticide/Miticide | Bifenthrin.
AZ-08-0004 | 71512 | Beleaf 50SG Insecticide | Flonicamid.
CA-00-0013 | 264 | Rovral 4 Flowable Fungicide | Iprodione.
CA-01-0029 | 59639 | Esteem Ant Bait | Pyriproxyfen.
CA-02-0014 | 264 | Rovral 4 Flowable Fungicide | Iprodione.
CA-03-0010 | 50534 | Daconil Weather Stik Flowable Fungicide | Chlorothalonil.
CA-06-0028 | 352 | DuPont Vydate C-LV Insecticide/Nematicide | Oxamyl.
CA-94-0023 | 59639 | Danitol 2.4 EC Spray (Insecticide-Miticide) | Fenpropathrin.
CA-96-0025 | 34704 | Prometryne 4L Herbicide | Prometryn.
CO-01-0007 | 59639 | Distance Insect Growth Regulator | Pyriproxyfen.
CO-11-0001 | 81880 | GWN-3061 | Halosulfuron-methyl.
CO-94-0006 | 400 | Comite II | Propargite.
CT-03-0002 | 59639 | Valor Herbicide | Flumioxazin.
FL-00-0002 | 59639 | Knack Insect Growth Regulator | Pyriproxyfen.
FL-12-0003 | 100 | Actigard 50WG | Acibenzolar-s-methyl.
FL-89-0032 | 59639 | Cobra Herbicide | Lactofen.
FL-94-0011 | 59639 | Tame 2.4 EC Spray | Fenpropathrin.
GA-03-0001 | 352 | Avaunt Insecticide | Indoxacarb.
GA-98-0006 | 59639 | Select Herbicide | Clethodim.
HI-97-0003 | 34704 | Clean Crop Carbaryl 4L | Carbaryl.
ID-00-0018 | 100 | Wakil XL | Cymoxanil; Fludioxonil; Metalaxyl-M.
ID-06-0019 | 5481 | Orthene 97 | Acephate.
ID-09-0017 | 100 | Scholar SC | Fludioxonil.
ID-93-0015 | 264 | Rovral 4 Flowable Fungicide | Iprodione.
ID-94-0001 | 264 | Rovral 4 Flowable Fungicide | Iprodione.
ID-96-0015 | 5481 | Assert Herbicide | Imazamethabenz.
IL-07-0004 | 59639 | Safari 20 SG Insecticide | Dinotefuran.
IN-07-0002 | 59639 | Safari 20 SG Insecticide | Dinotefuran.
KY-11-0034 | 400 | Terrazole 4EC | Etridiazole.
LA-03-0003 | 352 | Velpar L Herbicide | Hexazinone.
LA-03-0004 | 352 | Velpar DF Herbicide | Hexazinone.
LA-05-0009 | 66222 | White Guard 90 SP Cotton Insecticide | Acephate.
LA-06-0001 | 34704 | Permethrin | Permethrin.
LA-08-0002 | 7969 | Termidor SC Termiciticide/Insecticide | Fipronil.
LA-08-0003 | 7969 | Termidor 80 WG Termiciticide/Insecticide | Fipronil.
LA-12-0011 | 100 | Gramoxone Inteon | Paraquat dichloride.
LA-12-0017 | 10163 | Savey Technical | Hexythiazox.
LA-12-0018 | 7969 | Termidor SC Termiticide/Insecticide | Fipronil.
MA-05-0002 | 100 | Abound Flowable Fungicide | Azoxystrobin.
ME-08-0001 | 10163 | Nexter | Pyridaben.
MI-07-0005 | 59639 | Safari 20 SG Insecticide | Dinotefuran.
MI-07-0006 | 100 | Cannonball | Fludioxonil.
MI-10-0003 | 100 | Scholar SC | Fludioxonil.
MN-09-0004 | 100 | Dual Magnum | S-Metolachlor.
MN-09-0006 | 100 | Reglone Dessicant | Diquat dibromide.
MN-11-0003 | 81880 | GWN-3061 | Halosulfuron-methyl.
MO-05-0008 | 59639 | Valor SX Herbicide | Flumioxazin.
MO-05-0009 | 59639 | Valor SX Herbicide | Flumioxazin.
MO-05-0010 | 59639 | Valor SX Herbicide | Flumioxazin.
MO-98-0001 | 59639 | Resource Herbicide | Flumiclorac.
MS-02-0023 | 241 | Phantom Termiticide-Insecticide | Chlorfenapyr.
MS-05-0010 | 66222 | Acephate 90 SP Cotton Insecticide | Acephate.
MS-08-0005 | 100 | Dual Magnum | S-Metolachlor.
MS-81-0014 | 264 | Monitor 4 | Methamidophos.
MS-81-0055 | 264 | Monitor 4 | Methamidophos.
MS-96-0001 | 59639 | Cobra Herbicide | Lactofen.
NC-00-0002 | 59639 | Select Herbicide | Clethodim.
NC-03-0002 | 352 | DuPont Staple Herbicide | Pyrithiobac-sodium.
NC-03-0007 | 59639 | Velocity Herbicide | Bispyribac-sodium.
NC-06-0002 | 100 | Dual Magnum Herbicide | S-Metolachlor.
NC-87-0005 | 100 | Reflex 2LC Herbicide | Sodium salt of fomesafen.
ND-03-0012 | 352 | DuPont Asana XL Insecticide | Esfenvalerate.
ND-07-0004 | 34704 | Makaze Herbicide | Glyphosate-isopropylammonium.
ND-11-0001 | 81880 | GWN-3061 | Halosulfuron-methyl.
NE-11-0002 | 81880 | GWN-3061 | Halosulfuron-methyl.
NJ-05-0002 | 100 | Abound Flowable Fungicide | Azoxystrobin.
NJ-08-0003 | 59639 | Safari 20 SG Insecticide | Dinotefuran.
NV-09-0002 | 5481 | Zeal Miticide 1 | Etoxazole.
OH-01-0003 | 59639 | Valor WDG Herbicide | Flumioxazin.
OH-02-0003 | 59639 | Valor WDG Herbicide | Flumioxazin.
OH-07-0002 | 59639 | Safari 20 SG Insecticide | Dinotefuran.
OH-11-0006 | 400 | Terrazole 4EC | Etridiazole.
OK-97-0001 | 352 | DuPont Staple Herbicide | Pyrithiobac-sodium.
OR-01-0028 | 66222 | Galigan 2E | Oxyfluorfen.
OR-03-0034 | 66222 | Galigan 2E | Oxyfluorfen.
OR-06-0010 | 264 | Mocap EC Nematicide—Insecticide | Ethoprop.
OR-06-0024 | 264 | Mocap EC Nematicide—Insecticide | Ethoprop.
OR-06-0027 | 59639 | Select Max Herbicide with Inside Technology | Clethodim.
OR-07-0027 | 34704 | Stealth Herbicide | Pendimethalin.
OR-08-0027 | 264 | Axiom DF Herbicide | Flufenacet; Metribuzin.
OR-09-0003 | 264 | Mocap EC Nematicide—Insecticide | Ethoprop.
OR-09-0021 | 100 | Scholar SC | Fludioxonil.
OR-13-0009 | 100 | Palisade EC | Trinexapac-ethyl.
PA-07-0001 | 352 | DuPont Avaunt Insecticide | Indoxacarb.
SC-88-0001 | 59639 | Orthene 75 S Soluble Powder | Acephate.
SC-98-0002 | 59639 | Select Herbicide | Clethodim.
TN-05-0005 | 352 | DuPont Staple Herbicide | Pyrithiobac-sodium.
TN-08-0013 | 59639 | Safari 20 SG Insecticide | Dinotefuran.
TN-11-0003 | 400 | Terrazole 4EC | Etridiazole.
TX-00-0009 | 59639 | Distance Insect Growth Regulator | Pyriproxyfen.
TX-95-0003 | 5481 | Payload 15 Granular | Acephate.
TX-96-0001 | 5481 | Cobra Herbicide | Lactofen.
TX-96-0016 | 352 | Harmony Extra Herbicide | Thifensulfuron; Tribenuron-methyl.
TX-99-0010 | 241 | Arsenal Herbicide | Imazapyr, isopropylamine salt.
UT-98-0003 | 5481 | Orthene Turf, Tree & Ornamental Spray WSP | Acephate.
VA-08-0002 | 279 | Brigade 2EC Insecticide/Miticide | Bifenthrin.
WA-00-0037 | 100 | Wakil XL | Cymoxanil; Fludioxonil; Metalaxyl-M.
WA-06-0016 | 59639 | Select Max Herbicide with Inside Technology | Clethodim.
WA-08-0011 | 66330 | Evito 480 SC Fungicide | Fluoxastrobin.
WA-10-0007 | 100 | Graduate SC | Fludioxonil.
WA-98-0005 | 34704 | Prometryne 4L Herbicide | Prometryn.
WI-02-0012 | 59639 | Valor WDG Herbicide | Flumioxazin.
WI-07-0001 | 100 | Dual Magnum | S-Metolachlor.
WI-07-0006 | 50534 | Bravo Ultrex | Chlorothalonil.
WI-07-0007 | 50534 | Bravo Weather Stik | Chlorothalonil.
WI-07-0008 | 50534 | Bravo ZN | Chlorothalonil.
WI-08-0001 | 59639 | Safari 20 SG Insecticide | Dinotefuran.
WI-10-0004 | 50534 | Bravo Weather Stik | Chlorothalonil.
WI-12-0001 | 100 | Dual Magnum Herbicide | S-Metolachlor

Table 2 of this unit includes the names and addresses of record for all registrants of the products in Table 1 of this unit, in sequence by EPA company number. This number corresponds to the first part of the EPA registration numbers of the products listed in this unit.

Table 2—Registrants Requesting Voluntary Cancellation
EPA Company No. | Company name and address
100 | Syngenta Crop Protection, LLC, P.O. Box 18300, Greensboro, NC 27419-8300.
241 | BASF Corp., P.O. Box 13528, Research Triangle Park, NC 27709-3528.
264 | Bayer CropScience LP, P.O. Box 12014, Research Triangle Park, NC 27709.
279 | FMC Corp. Agricultural Products Group, 1735 Market St, Rm 1978, Philadelphia, PA 19103.
352 | E.I. Du Pont de Nemours & Co., 1007 Market Street, Wilmington, DE 19898-0001.
400 | Chemtura Corp., 199 Benson Rd., Middlebury, CT 06749.
464 | The Dow Chemical Company, 1500 East Lake Cook Road, Buffalo Grove, IL 60089.
961 | Lebanon Seaboard Corporation, 1600 East Cumberland Street, Lebanon, PA 17042.
1381 | Winfield Solutions, LLC, P.O. Box 64589, St. Paul, MN 55164-0589.
1529 | International Specialty Products, An Ashland Inc. Business, 1361 Alps Road, Wayne, NJ 07470.
1839 | Stepan Company, 22 W. Frontage Road, Northfield, IL 60093.
2693 | International Paint LLC, 2270 Morris Avenue, Union, NJ 07083.
2792 | Decco US Post-Harvest, Inc., 1713 South California Avenue, Monrovia, CA 91016-0120.
3008 | Osmose Inc., 980 Ellicott Street, Buffalo, NY 14209.
3862 | ABC Compounding Co., Inc., P.O. Box 16247, Atlanta, GA 30321-0247.
5481 | Amvac Chemical Corporation, 4695 MacArthur Court, Suite 1200, Newport Beach, CA 92660-1706.
5813 | The Clorox Co., C/O PS&RC, P.O. Box 493, Pleasanton, CA 94566-0803.
7969 | BASF Corp., Agricultural Products, P.O. Box 13528, Research Triangle Park, NC 27709-3528.
10163 | Gowan Co., P.O. Box 5569, Yuma, AZ 85366-8844.
34704 | Loveland Products, Inc., P.O. Box 1286, Greeley, CO 80632-1286.
35935 | Nufarm Limited, 4020 Aerial Center Pkwy., Suite 103, Morrisville, NC 27560.
39967 | LANXESS Corporation, 111 RIDC Park West Drive, Pittsburgh, PA 15275-1112.
50534 | GB Biosciences Corp., P.O. Box 18300, Greensboro, NC 27419-5458.
57787 | Haviland Consumer Products, Inc., D/B/A Haviland Consumer Products, 421 Ann Street, NW, Grand Rapids, MI 49504-2075.
59639 | Valent U.S.A. Corporation, 1600 Riviera Avenue, Suite 200, Walnut Creek, CA 94596.
62719 | Dow Agrosciences LLC, 9330 Zionsville Road, Indianapolis, IN 46268-1054.
66222 | Makhteshim Agan of North America, Inc., 3120 Highwoods Blvd., Suite 100, Raleigh, NC 27604.
66330 | Arysta Lifescience North America, LLC, 15401 Weston Parkway, Suite 150, Cary, NC 27513.
71368 | NuFarm, Inc., 4020 Aerial Center Pkwy., Suite 103, Morrisville, NC 27560.
71512 | ISK Biosciences Corporation, 7470 Auburn Road, Suite A, Concord, OH 44077.
81880 | Canyon Group LLC, C/O Gowan Company, 370 S. Main Street, Yuma, AZ 85364.

III. What is the agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have not requested that EPA waive the 180-day comment period. Accordingly, EPA will provide a 180-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products until January 15, 2015. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

List of Subjects

Environmental protection, Pesticides and pests.

Dated: June 16, 2014.
Michael Hardy,
Acting Director, Information Technology and Resources Management Division, Office of Pesticide Programs.

[FR Doc. 2014-19449 Filed 8-14-14; 8:45 am]

BILLING CODE 6560-50-P